DEPARTMENT OF THE INTERIOR

Bureau of Land Management

[LLES960000.L14400000.ET0000.234; MNES-059784]

Public Land Order No. 7917 for Withdrawal of Federal Lands; Cook, Lake, and Saint Louis Counties, MN

AGENCY: Bureau of Land Management, Department of the Interior.

ACTION: Public Land Order.

SUMMARY: This Order withdraws approximately 225,504 acres of National Forest System lands in Cook, Lake, and Saint Louis counties, Minnesota, from disposition under the United States mineral and geothermal leasing laws, for a period of 20 years, subject to valid existing rights, to protect and preserve the fragile and vital social and natural resources, ecological integrity, and wilderness values in the Rainy River Watershed, the Boundary Waters Canoe Area Wilderness (BWCAW), the Boundary Waters Canoe Area Wilderness Mining Protection Area (MPA), and the 1854 Ceded Territory of the Lake Superior Chippewa in northeastern Minnesota from the potential adverse effects of mineral and geothermal exploration and development.

DATES: This Order takes effect on January 31, 2023.

FOR FURTHER INFORMATION CONTACT: F. David Radford, Bureau of Land Management (BLM) Eastern States Office, telephone: (703) 558-7759, email: fradford@blm.gov, during regular business hours, 8 a.m. to 4:30 p.m., Monday through Friday, except holidays. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: The National Forest System Lands described in this Order are within Lake, Cook, and Saint Louis counties, Minnesota. This Order does not apply to non-Federal interests within the boundaries of the area described herein. If the non-Federal interests within the boundaries of the area described in this Order are subsequently acquired by the United States, the non-Federal interests will become subject to this withdrawal.

Order

By virtue of the authority vested in the Secretary of the Interior by Section 204(c) of the Federal Land Policy and Management Act of 1976, 43 U.S.C. 1714(c), it is ordered as follows:

1. Subject to valid existing rights, the National Forest System lands, and all non-Federal lands that are subsequently acquired by the Federal government, within the Townships identified below, as depicted in the attached map, are hereby withdrawn from disposition under the United States mineral and geothermal leasing laws, including the Mineral Leasing Act of 1920 (30 U.S.C. 181 et seq., as amended), the Geothermal Steam Act of 1970 (30 U.S.C. 1001 et seq.), the Mineral Leasing Act for Acquired Lands of 1947 (30 U.S.C. 351 et seq., as amended), Section 402 of the President's Reorganization Plan No. 3 of 1946, 16 U.S.C. 520, and 16 U.S.C. 508b, in order to protect and preserve the fragile and vital social and natural resources, ecological integrity, and wilderness values in the Rainy River Watershed, the Boundary Waters Canoe Area Wilderness, the Mining Protection Area, and the 1854 Ceded Territory of the Chippewa Bands in northeastern Minnesota from adverse effects of mineral and geothermal exploration and development. The purpose of the withdrawal is also to protect the health, traditional cultural values, and subsistence-based lifestyle of the Tribes that rely on resources in the region, such as wild rice, which are particularly susceptible to adverse impacts associated with mineral exploration and development. The Federal lands would remain subject to laws authorizing the disposal of mineral materials, as defined by 36 CFR 228, subpart C.

National Forest System Lands

Superior National Forest

Fourth Principal Meridian, Minnesota

Tps. 61 and 62 N., R. 5 W.

Tps. 60 to 62 N., R. 6 W.

Tps. 59 to 61 N., R. 7 W.

Tps. 59 to 61 N., R. 8 W.

Tps. 58 to 61 N., R. 9 W.

Tps. 57 to 62 N., R. 10 W.

Tps. 57 to 63 N., R. 11 W. Tp. 59 N., R. 12 W.

Tps. 61 to 63 N., R. 12 W.

Tps. 61 to 63 N., R. 13 W.

Further information on the project is available at BLM's ePlanning site at https://eplanning.blm.gov/eplanning-ui/project/2022642/510 or at the USFS Superior National Forest, 8901 Grand Ave. Place, Duluth, Minnesota, 55808.

2. The withdrawal made by this Order does not alter the applicability of laws governing the use of National Forest System lands other than the geothermal and mineral leasing laws.

3. This withdrawal will expire 20 years from the effective date of this order unless, as a result of a review conducted before the expiration date pursuant to Section 204(f) of the Federal Land Policy and Management Act of 1976, 43 U.S.C. 1714(f), the Secretary determines that the withdrawal shall be extended.

(The following map depicts the area withdrawn under this Public Land Order.)

BILLING CODE 4331-18-P

(Authority: 43 CFR 2310.)

Deb Haaland,
Secretary of the Interior.

[FR Doc. 2023-01969 Filed 1-30-23; 8:45 am]

BILLING CODE 4331-18-C